DEPARTMENT OF TRANSPORTATION

Federal Transit Administration

[Safety Advisory 16-1]

Stop Signal Overruns

AGENCY: Federal Transit Administration (FTA), Department of Transportation (DOT).

ACTION: Notice of Safety Advisory.

SUMMARY: The Federal Transit Administration (FTA) issued Safety Advisory 16-1 regarding stop signal overruns on rail fixed guideway public transportation systems, and an accompanying letter to the State Safety Oversight (SSO) program managers and the chief safety officers of rail transit systems, seeking data and information on stop signal overruns during 2015. Safety Advisory 16-1 and the accompanying letter are available in their entirety on the FTA public Web site at http://www.fta.dot.gov/tso.html.

DATES: The FTA is asking the directors of the SSO programs to submit the requested data and information by July 2016.

FOR FURTHER INFORMATION CONTACT: For program matters, Mr. Sam Shelton, Office of System Safety, telephone (202) 366-0815 or Sam.Shelton@dot.gov. For legal matters, Scott Biehl, Senior Counsel, telephone (202) 366-0826 or Scott.Biehl@dot.gov.

SUPPLEMENTARY INFORMATION: Across the rail transit industry, many if not most operators keep a database on the number of instances in which their passenger or maintenance vehicles over run a stop signal. In some instances, State Safety Oversight Agencies (SSOAs) have identified stop signal overruns as event data a Rail Fixed Guideway Public Transportation System (RFGPTS) must record and report to the SSOA, as part of the hazard management process in the System Safety Program Plans required by the FTA rules at 49 CFR part 659. The FTA considers stop signal overruns to be significant events, creating safety risks, with potentially catastrophic consequences. The FTA now seeks to better understand the prevalence of stop signal overruns throughout the industry. The FTA issued Safety Advisory 16-1, “Stop Signal Overruns,” which is eliciting data and information on stop signal overruns at RFGPTSs that occurred during calendar year 2015.

Specifically, FTA is requesting that each SSOA provide FTA with; (1) the total number of stop signal overruns that occurred during 2015 at each RFGPTS within the SSOA's oversight; (2) each RFGPTS's definition of stop signal overrun; (3) each RFGPTS's definition of a stop signal/stop aspect (e.g., hand signal, stop sign, cab signal); (4) a description of the process each RFGPTS uses to internally detect stop signal overruns; and, (5) a description of the process each RFGPTS uses to report stop signal overruns to the SSOA. The FTA is requesting this data and information by July 2016. The FTA is making this request in accordance with its authority to request State Safety Oversight program information, codified at 49 CFR 659.39(d). Safety Advisory 16-1 and an accompanying letter addressed to the SSO program managers, and the chief safety officers of RFGPTSs, are available in their entirety on the FTA public Web site at http://fta.dot.gov/tso.html.

Also, FTA is aware that a number of RFGPTSs keep data and information on stop signal overruns on their own volition, for the purpose of enhancing the safety of their operations, albeit they are not required to report that data and information to their SSOAs. The FTA seeks to develop as complete a database as practical, thus, FTA would appreciate these RFGPTSs submitting their data and information to their SSOAs, and in turn, the SSOAs providing that material to FTA. The cooperation of the entire rail transit industry would be very helpful in developing a better understanding of stop signal overruns, and in due course, a strategy for mitigating the safety risks created by stop signal overruns.

Matthew J. Welbes,
Executive Director.

[FR Doc. 2016-08353 Filed 4-11-16; 8:45 am]

BILLING CODE P